DEPARTMENT OF TRANSPORTATION

National Highway Traffic Safety Administration

[U.S. DOT Docket Number NHTSA-04-19624]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes collection of information for which NHTSA intends to seek OMB approval.

DATES: Comments must be received on or before February 8, 2005.

ADDRESSES: Comments must refer to the docket notice numbers cited at the beginning of this notice and be submitted to Docket Management, Room PL-401, 400 7th Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Ronald Filbert, NHTSA 400 Seventh Street, SW., room 5125, NTI-200,Washington, DC 20590. Mr. Filbert's telephone number is (202) 366-2701. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

(1) Title: Highway Safety Program Cost Summary.

OMB Control Number: 2127-0003.

Affected Public: 50 States, District of Columbia, Puerto Rico, U.S. Territories, and Tribal Government.

Form Number: HS-217 Highway Safety Program Cost Summary.

Abstract: The Highway Safety Plan identifies State's traffic safety problems and describes the program and projects to address those problems. In order to account for funds expended, States are required to submit a HS-217 Highway Safety Program Cost Summary. The Program Cost Summary is completed to reflect the state's proposed allocations of funds (including carry-forward funds) by program area, based on the projects and activities identified in the Highway Safety Plan.

Estimated Annual Burden: 570.

Number of Respondents: 57.

(2) Title: Uniform Criteria for State Observational Surveys of Seat Belt Use—Section 157.

OMB Control Number: 2127-0597.

Affected Public: The 50 States, The District of Columbia, & Puerto Rico.

Form Number: N/A.

Abstract: This collection would require the respondents, which are the States, the District of Columbia, and Puerto Rico to provide seat belt use survey information to NHTSA before they receive grant money. To be eligible for Incentive grant funding, the surveys must be completed by the end of the calendar year and submitted to NHTSA by March 1 of the following calendar year.

Estimated Annual Burden: 17,972.

Number of Respondents: 52.

(3) Title: 23 CFR, Part 1345, Occupant Protection Incentive Grant—Section 405.

OMB Control Number: 2127-0600.

Affected Public: The 50 States, the District of Columbia, Puerto Rico, American Samoa, Guam, Northern Marianas and Virgin Islands.

Form Number: N/A.

Abstract: An occupant protection incentive grant is available to states that can demonstrate compliance with at least four of six criteria. Demonstration of compliance requires submission of copies of relevant seat belt and child passenger protection statutes, plan and/or reports on statewide seatbelt enforcement and child seat education programs and possibly some traffic court records.

Estimated Annual Burden: 1,736.

Number of Respondents: 56.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on: December 3, 2004.
Marlene Markison,
Associate Administrator for Office of Injury Control Operations and Resources.

[FR Doc. 04-27103 Filed 12-9-04; 8:45 am]

BILLING CODE 4910-59-P